DEPARTMENT OF JUSTICE

Notice of Lodging of Consent Decree Under the Comprehensive Environmental Response, Compensation, and Liability Act

In accordance with Departmental policy, 28 CFR 50.7, and section 122(d)(2) of the Comprehensive Environmental Response, Compensation, and Liability Act (“CERCLA”), 42 U.S.C. 9622(d)(2), notice is hereby given that on August 6, 2002 a proposed Remedial Design/Remedial Action Consent Decree (“Decree”) in United States v. Union Pacific Railroad Company, Civil Action No. 8:02-CV-368 (D. Nebraska) was lodged with the United States District Court for the District of Nebraska.

The Decree resolves claims of the United States against Union Pacific Railroad Company (“Union Pacific”) under Sections 106 and 107(a) of CERCLA, 42 U.S.C. 9606 and 9607(a), for injunctive relief and recovery of response costs incurred and to be incurred by the United States Environmental Protection Agency (“EPA”) at Operable Unit Number 5 (“OU5”) of the Cleburn Street Well Superfund Site located in Grand Island, Nebraska (“Site”). The Decree requires Union Pacific to implement EPA's selected remedial action for OU5 of the Site, pay $68,493.72 in reimbursement of past response costs, and pay EPA's future oversight costs at OU5.

The Department of Justice will receive for a period of thirty (30) days from the date of this publication comments relating to the Decree. Comments should be addressed to the Assistant Attorney General, Environment and Natural Resources Division, P.O. Box 7611, U.S. Department of Justice, Washington, DC 20044-7611, and should refer to United States v. Union Pacific Railroad Company, Civil Action No. 8:02-CV-368 (D. Nebraska), D.J. Ref. 90-11-2-07597.

The Decree may be examined at the Office of the United States Attorney for the District of Nebraska, 1620 Dodge Street, Suite 1400, Omaha, Nebraska 68102-1506, and at U.S. EPA Region VII, 901 N. 5th Street, Kansas City, Kansas 66101. A copy of the Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $25.75 (25 cents per page reproduction cost) payable to the U.S. Treasury. In requesting a copy without the appendices, please enclose a check in the amount of $11.00 (25 cents per page reproduction cost) payable to the U.S. Treasury.

Robert E. Maher,
Assistant Chief, Environmental Enforcement Section, Environment and Natural Resources Division.

[FR Doc. 02-20689 Filed 8-14-02; 8:45 am]

BILLING CODE 4410-15-M